ENVIRONMENTAL PROTECTION AGENCY

[ER-FRL-6636-9]

Environmental Impact Statements; Notice of Availability

Responsible Agency: Office of Federal Activities, General Information (202) 564-7167 or http://www.epa.gov/compliance/nepa/.

Weekly receipt of Environmental Impact Statements filed January 13, 2003 through January 17, 2003, pursuant to 40 CFR 1506.9.

EIS No. 030023, Final EIS, FHW, OH, KY, Ironton-Russell Bridge Replacement Project, LAW-93C-0.00, PID 17359, Structurally-Deficient and Functionally-Obsolete Bridge Replacement, Funding, NPDES, U.S. Coast Guard Section 9 Bridge Permits and U.S. Army COE Section 10 and 404 Permits Issuance, Lawrence County, OH and Greenup County, KY, Wait Period Ends: February 24, 2003, Contact: Pete Jilek (614) 280-6835.

EIS No. 030024, Draft EIS, AFS, County Line-Fourmile Project, To Implement Management Direction as Outlined in the Allegheny National Forest Land and Resource Management Plan, Bradford Ranger District, Warren and McKean Counties, PA, Comment Period Ends: March 10, 2003, Contact: Jim Apgar (814) 362-4613.

EIS No. 030025, Draft EIS, AFS, ID, Upper Bear Timber Sale Project, Proposal to Reduce Fuels, Manage Forest Vegetation and Roads Management, Payette National Forest, Council Ranger District, Adams County, ID, Comment Period Ends: March 10, 2003, Contact: Mary Farnsworth (208) 253-0100.

EIS No. 030026, Final EIS, AFS, ID, Middle-Black Analysis Project, Proposes Vegetative Management, Watershed Restoration, and Noxious Weed Activities Aimed at Ecosystem Restoration, Clearwater National Forest, North Fork Ranger District, Clearwater County, ID, Wait Period Ends: February 24, 2003, Contact: Tam White (208) 476-8226.

EIS No. 030027, Final EIS, SFW, AK, Swanson River Satellites Natural Gas Exploration and Development Project, Evaluation of a Right-of-Way Permit Application and U.S. Army COE Section 404 and NPDES Permits Issuance, Kenai National Wildlife Refuge, Kenai Peninsula, AK, Wait Period Ends: February 24, 2003, Contact: Brian L. Anderson (907) 786-3379.

EIS No. 030028, Final EIS, FTA, FL, Tampa Rail Project, Transportation Improvements, Light Rail Transit (LRT) or Diesel Multiple Unit (DMU) Vehicles, City of Tampa, Hillsborough County, FL, Wait Period Ends: February 24, 2003, Contact: Derek R. Scott (404) 562-3524.

EIS No. 030029, Draft EIS, AFS, CA, Blue Fire Forest Recovery Project, Proposal to Move the Existing Condition Caused by the Blue Fire of 2001 Towards the Desired Condition, Modoc National Forest, Warner Mountain Ranger District, Lassen and Modoc Counties, CA, Comment Period Ends: March 10, 2003, Contact: Edith Asrow (530) 279-6116.

EIS No. 0230030, Draft EIS, NPS, AR, Arkansas Post National Memorial General Management Plan, Implementation, Osotouy Unit, Arkansas and Mississippi Rivers, Arkansas County, AR, Comment Period Ends: March 25, 2003, Contact: Nick Chevance (402) 221-7286.

EIS No. 030031, Draft EIS, JUS, CA, Juvenile Justice Facility and East County Hall of Justice, Proposal to Evaluates two Projects that could be Constructed at one (Combined Siting) or (Separate Siting), Alamenda County, CA, Comment Period Ends: March 10, 2003, Contact: Paul DeLameter (202) 514-7903.

Amended Notices

EIS No. 020511, Draft EIS, COE, MD, Aberdeen Proving Ground (APG) Project, To Conduct Research and Development, Test and Evaluate Ordnance, Military Equipment and to Train Personnel, Chesapeake Bay, Hartford, Baltimore, Kent and Cecil Counties, MD, Comment Period Ends: February 18, 2003, Contact: Tracy Dunne (410) 278-2479. Revision of FR Notice Published on 12/20/2002: CEQ Comment Period Ending 2/3/2003 has been Extended to 2/18/2003.

Dated: January 21, 2003.
Joseph C. Montgomery,
Director, NEPA Compliance Division, Office of Federal Activities.

[FR Doc. 03-1621 Filed 1-23-03; 8:45 am]

BILLING CODE 6560-50-P